DEPARTMENT OF AGRICULTURE

Forest Service

Black Hills National Forest, South Dakota; Thunder Basin National Grassland, Wyoming; Teckla-Osage-Rapid City Transmission 230 kV Project

AGENCY: Forest Service, USDA.

ACTION: Corrected Notice of intent to prepare an environmental impact statement.

SUMMARY: The Forest Service will prepare an environmental impact statement (EIS) on a proposal by Black Hills Power (BHP) to construct and operate a 230 kilovolt (kV) transmission line between the Teckla and Osage Substations in northeastern Wyoming to the Lange Substation in Rapid City, South Dakota. The Bureau of Land Management (BLM) is a cooperating agency on this EIS. The Teckla-Osage-Rapid City Transmission 230 kV Project would be approximately 150 miles long. It would cross portions of the Black Hills National Forest and private lands in South Dakota and portions of the Thunder Basin National Grasslands, private lands, BLM lands, and state lands in Wyoming. The line would be constructed on wood or steel H-frame structures for most of its length with possibly some steel monopole structures in the Rapid City area. The structures would be 65 to 75 feet tall and the line would require a right-of-way approximately 125 feet wide.

This corrected notice of intent (corrected NOI) updates information in the original notice, published in the Federal Register August 26, 2011 (76FR53400). A corrected notice was needed to update the timing information for the Draft and Final EISs, and to clarify the mailing address for comments. Also, this project analysis is being conducted under the authority of the Forest Service predecisional objection regulation at 36 CFR 218, Subparts A and B, issued in the Federal Register on March 27, 2013 (78FR18481).

DATES: The draft environmental impact statement is expected to be available for public review in December 2013 and the final environmental impact statement is expected to be completed by August 2014.

ADDRESSES: Send written comments to Ruth Esperance, District Ranger, Mystic Ranger District, Teckla-Osage-Rapid City Project, 8221 South Highway 16, Rapid City, South Dakota 57702;. Send comments via email to comments-rocky-mountain-black-hills-mystic@fs.fed.us with “Teckla-Osage-Rapid City Transmission Line” as the subject. Electronic comments must be readable in Word, Rich Text or PDF formats.

FOR FURTHER INFORMATION CONTACT: Those with questions or needing additional information should contact Jessica Eggers at the Mystic Ranger District office in Rapid City at (605) 343-1567, or Geri Proctor at the Thunder Basin National Grasslands in Douglas, WY at (307) 358-4690. Individuals who use telecommunication devices for the deaf (TDD) may call the Federal Information Relay Service (FIRS) at 1-800-877-8339 between 8 a.m. and 8 p.m., Eastern Time, Monday through Friday.

SUPPLEMENTARY INFORMATION: The actions proposed are in direct response to an application submitted to the Black Hills National Forest and Thunder Basin National Grassland by Black Hills Power (BHP) to construct and operate a 230 kilovolt (kV) transmission line between the Teckla and Osage Substations in northeast Wyoming and the Lange Substation in Rapid City, South Dakota. The project area covers parts of Campbell and Weston Counties in Wyoming, and Pennington, Meade, and Lawrence Counties in South Dakota.

Purpose and Need for Action

The purpose of the Teckla-Osage-Rapid City Transmission Project is to:

• Strengthen the regional transmission network

• Improve the reliability of the transmission system

• Provide additional transmission capacity to help meet the growing demand for electricity and economic development in the region

Proposed Action

The proposed action is to construct the Teckla-Osage-Rapid City 230 kV transmission line as described below:

• Approximately 135 miles of transmission line

• Require a 125 foot right-of-way

• Construction of wood or steel H-frame structures 65-75 feet in height.

This proposal also includes specific actions needed for interim and final reclamation.

Lead and Cooperating Agencies

The Bureau of Land Management is a cooperating agency on this EIS.

Responsible Officials

For the Forest Service: Craig Bobzien, Forest Supervisor, Black Hills National Forest, 1019 N. 5th Street, Custer, SD 57730; and Carolyn P. Upton, Deputy Forest Supervisor, Medicine Bow—Routt National Forest and Thunder Basin National Grassland, 2468 Jackson Street, Laramie, WY 82070. For the Bureau of Land Management: Stephanie Connolly, District Manager, BLM Wyoming High Plains District, 2987 Prospector Drive, Casper, WY 82604.

Nature of Decision To Be Made

The Forest Supervisors and BLM District Manager will decide whether the proposed action will proceed as proposed or as modified by an alternative; which recommended mitigation measures and monitoring requirements will be applied; and whether an Amendment to a forest plan or resource management plan is required.

Issues

Prior to scoping the preliminary issues included effects of the project on plants and wildlife including sensitive species such as sage grouse, goshawks, and other raptors; archaeological sites; hydrology and water quality; and scenic integrity and visual resources. Public scoping and analysis of comments has allowed the Forest Service and BLM to clarify the list of key issues. While the EIS will analyze effects of the alternatives on archaeological sites, hydrology and water quality, these topics are not expected to drive the formulation of alternatives and thus will not be listed as key issues. Those issue topics which will drive alternatives include effects of the project on wildlife including sensitive species such as sage grouse, goshawks, and other raptors; wetlands and vegetation communities; scenic integrity and visual resources; private property including values and electricity rates; existing and future motorized recreation trail opportunities; existing forest vegetation (tree removal); and public health as affected by electromagnetic fields.

Scoping Process and Next Steps

The original notice of intent initiated the scoping process, which guides the development of the environmental impact statement. Comments and input regarding the proposal were received from the public, other groups, and agencies during the initial public comment period through October 28, 2011. Public meetings were held at the Hell Canyon Ranger District Office, 1225 Washington Boulevard in Newcastle, WY; and the Mystic Ranger District office, 8221 South Highway 16 in Rapid City, SD. The agencies read and considered all comments, refined the list of issues, and developed one additional alternative to the proposed action, and analyzed the effects of all alternatives. The Draft Environmental Impact Statement (DEIS) is expected to be issued in December 2013. The public will be invited to review the DEIS and respond with comment during a 45-day comment period. The agencies expect to host one or more public meetings after the DEIS is issued, with the time(s) and place(s) yet to be determined. Public comment will be reviewed and appropriate changes will be documented in the Final EIS, which is expected to be issued in August 2014.

It is important that reviewers provide their comments at such times and in such manner that they are useful to the agency's preparation of the environmental impact statement. Therefore, comments should be provided prior to the close of any comment period and should clearly articulate the reviewer's concerns and contentions.

Comments received in response to a solicitation, including names and addresses of those who comment, will be part of the public record for this proposed action. Comments submitted anonymously will be accepted and considered, however, anonymous comments may not provide eligibility to participate in the predecisional objection process.

Dated: December 17, 2013.
Dennis L. Jaeger,
Deputy Forest Supervisor, Black Hills National Forest.

[FR Doc. 2013-30665 Filed 12-23-13; 8:45 am]

BILLING CODE 3410-11-P